DEPARTMENT OF THE INTERIOR

Bureau of Land Management

Notice of Application for Withdrawal and Opportunity for Public Comment; California

AGENCY: Bureau of Land Management, Interior.

ACTION: Notice.

SUMMARY: The United States Forest Service (USFS) has filed an application with the Bureau of Land Management (BLM) requesting that the Secretary of the Interior withdraw 39.60 acres for a 20-year term to protect the integrity of the historic and cultural resources at the Schwartz & Leff Administrative Site located along the North Fork of the Salmon River in the Klamath National Forest. This notice segregates the land from location and entry under the United States mining laws for up to two years while the application is being processed. This notice also gives the public an opportunity to comment on the withdrawal application and to request a public meeting.

DATES: Comments and public meeting requests must be received by October 25, 2017.

ADDRESSES: Comments and public meeting requests should be sent to the Salmon Scott River Ranger District, 11263 North Highway 3, Fort Jones, CA 96032-9702, Attn: Gay Baxter; or by email at gbaxter@fs.fed.us.

FOR FURTHER INFORMATION CONTACT: Elizabeth Easley, BLM California State Office, 916-978-4673, eeasley@blm.gov; Zarreen Ali, USFS Region 5 Regional Office, 707-562-8964; or Gay Baxter, USFS Klamath National Forest Salmon Scott River Ranger District, 530-468-1210. Persons who use a telecommunications device for the deaf (TDD) may call the Federal Relay Service at 1-800-877-8339 to contact any of the above individuals. The Service is available 24 hours a day, 7 days a week, to leave a message or question with the above individuals. You will receive a reply during normal business hours.

SUPPLEMENTARY INFORMATION: The USFS has filed an application requesting that the Secretary of the Interior withdraw, subject to valid existing rights, the National Forest System land described below from location and entry under the United States mining laws (30 U.S.C. ch. 2), for the protection of the cultural and historic resources within the Schwartz & Leff Administrative Site.

Humboldt Meridian

Klamath National Forest

T. 10 N., R. 8 E.,

M.S. 6686 EXCEPT that portion within Tract 44 of said T. 10 N., R. 8 E., Humboldt Meridian

The area described contains 39.60 acres in Siskiyou County.

The lands described above are National Forest System lands; the Secretary shall make a withdrawal only with the consent of the head of the department or agency administering these lands. The use of a right-of-way, interagency agreement, or cooperative agreement would not adequately constrain non-discretionary uses and would not provide adequate protection of the Federal investment in the improvements located on the lands. There are no suitable alternative sites with equal or greater benefit to the government. Conversely, there are alternative sites that will remain open to mineral entry that hold greater mineral potential than this location.

No additional water rights will be needed to fulfill the purpose of the requested withdrawal.

For a period until October 25, 2017, all persons who wish to submit comments, suggestions, or objections in connection with the proposed withdrawal may present their views in writing to the USFS office at the address listed above. Notice is also hereby given that the opportunity for a public meeting is afforded in connection with the proposed withdrawal. All interested parties who desire a public meeting for the purpose of being heard on the proposed withdrawal must submit a written request to the USFS office at the address listed above by October 25, 2017.

If it is determined that a public meeting will be held, a notice will be published to announce the time and place in the Federal Register at least 30 days before the scheduled date of the meeting.

Before including your address, phone number, email address, or other personal identifying information in your comment, you should be aware that your entire comment—including your personal identifying information—may be made publicly available at any time. Individuals who submit written comments may request confidentiality by asking us in their comment to withhold personal identifying information from public review. We cannot, however, guarantee that we will be able to do so.

For a period until July 29, 2019, subject to valid existing rights, the National Forest System lands described in this notice will be segregated from location and entry under the United States mining laws, unless the application is denied or canceled or the withdrawal is approved prior to that date. The temporary land uses that may be permitted during the temporary segregation period include licenses, permits, rights of way, and disposal of vegetative resources other than under the mining laws.

Authority: 43 CFR 2300.

Genivieve Rasmussen,
Acting Deputy State Director, Natural Resources.

[FR Doc. 2017-15778 Filed 7-26-17; 8:45 am]

BILLING CODE 3411-15-P